DEPARTMENT OF LABOR

Employment and Training Administration

Notice of Availability of Funds and Solicitation for Grant Applications (SGA) for Grants Serving Young Adult Offenders and High School Dropouts in High-Poverty, High-Crime Communities

AGENCY: Employment and Training Administration, U.S. Department of Labor.

Announcement Type: Notice of Solicitation for Grant Applications (SGA).

Funding Opportunity Number: SGA/DFA PY 09-05.

Catalog of Federal Domestic Assistance (CFDA) Number: 17.261.

DATES: Key Dates: The closing date for receipt of applications under this announcement is May 10, 2010. Applications must be received no later than 4 p.m. Eastern Time.

ADDRESSES: Mailed applications must be addressed to the U.S. Department of Labor, Employment and Training Administration, Division of Federal Assistance, Attention: B. Jai Johnson, Grant Officer, Reference SGA-DFA PY 09-05, 200 Constitution Avenue, NW., Room N-4716, Washington, DC 20210. For complete “Application and Submission Information,” please refer to Section IV.

SUMMARY: The Employment and Training Administration announces the availability of approximately $20 million for two grants to serve young adult (ages 18 to 24) offenders and high school dropouts in high-poverty, high-crime communities. The purpose of these grants is to prepare these individuals for employment. These grants will be awarded through a competitive process open to national and regional intermediaries with experience conducting multi-site projects and experience serving young adult offenders. The Department expects to award two grants of $10 million each covering a six-month planning period and two full years of operation. Grantees will be required to competitively select local sub-grantees to operate the program in a minimum of five high-poverty, high-crime communities across at least two States.

This solicitation provides background information and describes the application submission requirements, outlines the process that eligible entities must use to apply for funds covered by this solicitation, and outlines the evaluation criteria used as a basis for selecting the grantees.

SUPPLEMENTARY INFORMATION: This solicitation consists of eight parts:

Part I provides a description of this funding opportunity.

Part II describes the size and nature of the anticipated awards.

Part III describes eligibility information.

Part IV provides information on the application and submission process.

Part V describes the criteria against which applications will be reviewed and explains the proposal review process.

Part VI provides award administration information.

Part VII contains DOL agency contact information.

Part VIII other information.

I. Funding Opportunity Description

Each year approximately 650,000 persons are released from State and Federal prisons. These prisoners do not return to communities evenly distributed across the United States, but rather return disproportionately to high-poverty communities characterized by high rates of joblessness, crime, and drug abuse. Released prisoners face high probabilities of returning to crime, with Department of Justice data showing that three out of five released prisoners are arrested for new crimes within three years, and two out of five return to prison within threes years. Returning offenders face a myriad of problems that contribute to their high rates of re-arrest and re-imprisonment, including joblessness, low educational levels, and drug addiction. The unemployment rate among ex-prisoners has been estimated between 25 and 40 percent. An estimated 19 percent of adult State prisoners are completely illiterate and 40 percent are functionally illiterate; over half of State parole entrants are not high school graduates; and as many as eleven percent have only an eighth grade education or less.

To help address these problems the DOL will award grants under this announcement to improve the employment prospects of young adult (ages 18 to 24) released prisoners and high school dropouts living in high-poverty, high-crime communities. The purpose of these grants is to prepare these individuals for employment, by increasing the employment rate of participants, decreasing the recidivism rate of young offenders served, increasing the rate at which participants receive high school diplomas and industry-recognized credentials, and increasing the rate at which participants enter post-secondary education and training. These grants will be awarded through a competitive process open to national and regional intermediaries with experience conducting multi-site projects and experience serving young adult offenders. The DOL expects to award two grants of $10 million each covering a six-month planning period and two full years of operation. Program Requirements are as follows:

A. Selection of Sub-Grantees

Grantees will be required to competitively select local sub-grantees to operate the program in a minimum of five high-poverty, high-crime communities across at least two States. This competition should be held after grant award. The Department is not encouraging applicants to hold competitions or select local sub-grantees and sites prior to submitting their proposals and applicants will not receive any additional points for identifying local sub-grantees and sites in their proposals.

Grantees must follow their own procurement requirements in conducting this competition, provided that they meet the federal standards at 29 CFR Parts 95 and 97. These federal standards require that procurement transactions be conducted in a manner providing to the maximum extent practical, open and free competition. The Department recognizes that national and regional intermediary organizations vary as to whether or not they have local offices, affiliates, or members. National and regional intermediaries without local offices, affiliates, or members must conduct an open and free competition to select sub-grantees and sites. National and regional intermediaries with local offices, affiliates, or member organizations must also conduct an open and free competition to select sub-grantees and sites but may restrict the competition to its local offices, affiliates, or members to select sub-grantees and sites. If a proposal identifies a specific entry to provide services, the DOL/ETA's award does not provide the justification or basis to sole source the procurement, i.e., avoid competition, unless the activity is regarded as the primary work of an official partner to the application.

B. Communities To Be Served

Grant funds must be used to serve young adult offenders and high school dropouts living in or planning to return to, upon release, high-poverty, high-crime communities. In their solicitations to select sub-grantees, grantees must require that applicants identify a community to be served that has a poverty rate of at least 30 percent. Beginning in 2010, the American Community Survey conducted by the U.S. Bureau of Census, will have data available at the Census Tract level. If that data is available by the time grantees are holding their competitions to select sub-grantees, grantees must require applicants to use American Community Survey data to show the cumulative poverty rate of the various Census Tracts included in their proposed target community. If Census Tract data are not yet available in the American Community Survey at the time of the grantee solicitations for sub-grantees, grantees must require applicants to use data from the 2000 Census to show the cumulative poverty rate of the various Census Tracts in their proposed target community. Individual Census Tracts within the proposed target community may have poverty rates of less than 30 percent, but the cumulative poverty rate for the community to be served must be over 30 percent. Census Tracts that make up the community to be served must be contiguous, and grantees must require in their solicitations that applicants provide an accurate map showing a contiguous target community. Additionally, as part of their solicitation, grantees must require applicants to demonstrate that the area to be served is a high-crime area.

For purposes of this SGA, a high-crime area may be demonstrated by providing data showing that the felony crime rate in the police precinct that most closely overlaps with the community to be served is higher than the overall city's felony crime rate. Additionally, as part of their solicitation and in order to demonstrate local need and determine if the target population is large enough to make such awards within the stated locality grantees must require applicants to provide data from the State correctional agency on the number of released prisoners returning to the community each year from State prisons, and data from the public school system on the dropout rate of public high schools serving the area. There are no requirements on the size of the population of the community to be served. At least 90 percent of the participants need to be residing in or planning to return to the target area, with the remaining participants residing in or planning to return to generally the same geographic area.

C. Required Project Components

Each local project funded under these grants must include each of the components described below. In their solicitations to select sub-grantees, grantees must require local projects to include each of these components. Each individual enrolled in these projects does not necessarily have to participate in each of these components.

1. Employment Strategies

The employment strategies component can include strategies such as job placement, transitional jobs, on-the job training, subsidized jobs in both the public and private sectors, participation in conservation and service corps programs, and job readiness training. An emphasis should be on placing participants in high-demand occupations including green jobs. Designing this component will require sub-grantees to coordinate with the local workforce system to provide access both to employers and the service providers funded by the local workforce system.

2. Case Management

This component will provide a team of full-time advocates to serve program participants. The Department anticipates these case managers or advocates will assist parole officers in serving returning young offenders and in linking these offenders to supportive services, housing, mental health services, and other social services including anger management. The Department expects that case management will start at some point prior to release to allow young offenders to become familiar with their case managers prior to release.

3. Training and Educational Strategies

This component will provide opportunities for young adult offenders and high school dropouts to receive vocational training leading to industry-recognized credentials as well as remediation to improve their math, reading, writing and English language skills to prepare for General Educational Development (GED) tests. These services can either be provided directly with grant funds or through linkages with existing local adult education and community college programs. The Department encourages links to registered apprenticeship programs and to community college two-year degree programs.

4. Mentoring

This component will be aimed at providing adult mentors for returning young offenders and high school dropouts. Mentoring can be provided through volunteers recruited in a variety of ways, including through faith and community-based organizations and corporations, and may include one-on-one mentoring, group mentoring, and service-based mentoring. The Department recognizes that it may not be possible to provide a mentor for every participant, but grantees should develop strategies to provide a high proportion of their participants with mentors.

5. Restorative Justice Projects

This component will provide each sub-grantee with the opportunity to develop restorative justice projects that allow returning offenders to participate in community service projects to give something positive back to their neighborhood to make up for their criminal offenses. Examples of possible collaborating agencies for these civic justice projects include local conservation and service corps programs, volunteer organizations, and State and local parks. Note that funds from these grants cannot be used to pay for building materials.

6. Community-Wide Efforts to Reduce Crime and Violence

This component will provide each sub-grantee with the opportunity to involve faith-based and community organizations, State and local government agencies, and social service organizations in the neighborhoods being served in a community-wide effort to prevent crime and violence as was done in Boston's 10 Point Coalition (http://www.jsonline.com/story/index.aspx?id=212652).

D. Required Partnerships

Each sub-grantee will be required to develop partnerships to assist in the following activities. In their solicitations to select sub-grantees, grantees must require applicants to have commitments to assist in these activities in place from these organizations:

• The State correctional agency in order to receive referrals of prisoners about to be released who plan to return to the community being served;

• The local parole office in order to receive referrals of released prisoners and to collaborate in serving these individuals;

• Local drug and alcohol abuse treatment centers in order to provide assistance to program participants in need of such services; and

• The local Workforce Investment Board in order to provide access to employment services provided by One-Stop Career Centers.

Grantees are also encouraged to partner with employers, registered apprenticeship, educational institutions, and [labor or labor-management partnerships].

E. Allowable Uses of Grant Funds

Allowable uses of grant funds for projects funded under these grants include but are not limited to the following activities:

(1) Workforce and education activities, such as:

• Job placement services,

• Vocational skills training and on-the-job training,

• Paid and unpaid work experiences, including transitional jobs and community service activities,

• Payment of stipends which are generally provided to participants for participating in classes and training and wages for work performed,

• Basic skills instruction and remedial education,

• Language instruction educational programs for individuals with limited English proficiency,

• Tutoring, credit retrieval programs, dropout prevention activities, GED instruction, and career awareness classes,

• Counseling and assistance in obtaining postsecondary education and required financial aid; and

• Alternative secondary school services.

(2) Case management services and related activities, such as comprehensive guidance and counseling on drug and alcohol abuse and referrals and anger management counseling;

(3) Mentoring and related supportive services;

(4) Participant personal development activities that seek to develop non-technical skills, abilities, and traits that participants need to function in a specific employment environment that supports one or more workplace competencies including problem-solving and other cognitive skills, oral communication skills, personal qualities, work ethic, and interpersonal and teamwork skills. Examples include leadership training, financial literacy training, and job readiness training;

(5) Referrals to supportive housing, mental health and substance abuse services as may be available;

(6) The provision of needs-related payments, which is limited financial assistance to participants who are determined under the grantee's policy to require support to participate in the program; and;

(7) Follow-up services that focus efforts on job retention, wage gains and career progress through regular contact with participant employers, including assistance in addressing work-related problems that arise, assistance in securing better paying jobs, career development and further education, work in peer support groups, adult mentoring, and tracking of progress made by participants in employment after training.

II. Award Information

A. Award Amount

The Department expects to award two grants of approximately $10 million each.

B. Period of Performance

Grants will be awarded for a 30-month period of performance that includes up to six months of planning and at least 24 full months of operation. In the Budget Narrative section, applicants must provide separate budgets for planning and operations. Regardless of the length of the planning period, applicants must budget for a full 24 months of operation. At the Department's discretion, no-cost extensions may be granted.

III. Eligibility Information and Other Grant Specifications

A. Eligible Applicants

Applicants may be national and regional organizations with experience in conducting multi-site demonstrations and experience serving young adult ex-offenders. To be eligible for awards, applicants must show evidence that they have both (1) conducted at least one multi-site project operated concurrently in at least five local areas across more than one State, and (2) have experience serving young adult ex-offenders. The experience in conducting multi-site projects does not necessarily have to be in serving ex-offenders.

B. Cost Sharing or Matching

There is no cost sharing or matching requirement in these grants, but the Department strongly encourages grantees to include the leveraging of resources as one of the evaluation factors that they use to select local sub-grantees. Leveraged resources can come from a variety of sources, including: public sector (e.g., Federal, State, or local governments); non-profit sector (e.g., community organizations, faith-based organizations, or education and training institutions); private sector (e.g., businesses or industry associations); investor community (e.g., angel networks); philanthropic community; and the economic development community.

C. Other Eligibility Requirements

Eligible Enrollees

An individual may participate in a project funded under these grants if they are:

• At least age 18 and not above age 24 on the date of enrollment;

• Are currently incarcerated in the adult criminal justice or juvenile justice systems in a State or Federal prison or local jail or state or local juvenile correctional facility; are on probation or parole in the adult criminal justice system; have previously been incarcerated or on probation in the adult criminal justice system or the juvenile justice system, or are a high school dropout (an individual who is no longer attending any school and who has not received a secondary school diploma or recognized equivalent), and

• Reside in or plan to return to upon release the community to be served identified by the sub-grantee, except that up to 10 percent of enrollees may reside in or plan to return to a geographic area outside of but close to the target community.

A minimum of 60 percent of program participants must be currently or previously incarcerated, currently or previously on probation, or currently or previously on parole in the adult criminal justice system.

D. Veterans' Priority

The Jobs for Veterans Act (Pub. L. 107-288) requires priority of service to veterans and spouses of certain veterans for the receipt of employment, training, and placement services in any job training program directly funded, in whole or in part, by DOL. The regulations implementing this priority of service can be found at 20 CFR part 1010. In circumstances where a grant recipient must choose between two qualified candidates for training, one of whom is a veteran or eligible spouse, the Veterans Priority of Service provisions require that the grant recipient give the veteran or eligible spouse priority of service by admitting him or her into the training program. To obtain priority of service a veteran or spouse must meet the program's eligibility requirements. Grantees must comply with DOL guidance on veterans' priority. Employment and Training Administration (“ETA”) Training and Employment Guidance Letter (TEGL) No. 10-09 (issued November 10, 2009) provides guidance on implementing priority of service for veterans and eligible spouses in all qualified job training programs funded in whole or in part by DOL. TEGL No. 10-09 is available at http://wdr.doleta.gov/directives/corr_doc.cfm?DOCN=2816.

IV. Application and Submission Information

A. How To Obtain an Application Package

This SGA contains all the information and links to forms needed to apply for grant funding. Additionally, all application materials are available on the following Web sites: http://www.doleta.gov/grants/find_grants.cfm and http://www.grants.gov.

B. Content and Form of Application Submission

The application must consist of three separate and distinct parts: (I) the Cost Proposal, (II) the Technical Proposal, and (III) Attachments to the Technical Proposal. Applications that fail to adhere to the instructions in this section will be considered non-responsive and will not be reviewed nor considered for award. Please note that it is the applicant's responsibility to ensure that the amount of funds requested is consistent across all parts and sub-parts of the application.

Part 1. The Cost Proposal. The Cost Proposal must include the following four items.

• Application for Federal Assistance SF-424: The Standard Form (SF)-424, “Application for Federal Assistance” is available at http://www07.grants.gov/agencies/forms_repository_information.jsp and http://www.doleta.gov/grants/find_grants.cfm. The SF-424 must clearly identify the applicant and be signed by an individual with authority to enter into a grant agreement. Upon confirmation of an award, the individual signing the SF-424 on behalf of the applicant shall be considered the authorized representative of the applicant.

• Data Universal Number System (D-U-N-S®) Number: Applicants must supply their D-U-N-S® on the SF-424. All applicants for Federal grant and funding opportunities are required to have a D-U-N-S® Number. See Office of Management and Budget (OMB) Notice of Final Policy Issuance, 68 FR 38402, Jun. 27, 2003. The lead applicant, the CBO, must supply their D-U-N-S® number on the SF-424. The D-U-N-S® Number is a non-indicative, nine-digit number assigned to each business location in the Dun and Bradstreet (D&B) database having a unique, separate, and distinct operation, and is maintained solely by D&B entities. The D-U-N-S® Number is used by industries and organizations around the world as a global standard for business identification and tracking. Obtaining a D-U-N-S® Number is easy and there is no charge. To obtain a D-U-N-S® number, access this Web site: www.dunandbradstreet.com or call 1-866-705-5711.

• The SF-424A Budget Information Form: The SF-424A Budget Information Form is available at http://www07.grants.gov/agencies/forms_repository_information.jsp and http://www.doleta.gov/grants/find_grants.cfm. In preparing the Budget Information Form, the applicant must provide a concise narrative explanation to support the request, explained in detail below.

• Budget Narrative: The budget narrative must provide a description of costs associated with each line item on the SF-424A. In addition, the applicant should address precisely how the administrative costs support the project goals. The entire Federal grant amount requested should be included on both the SF-424 and SF-424A. Please note that applicants that fail to provide a SF-424, a SF-424A, a D-U-N-S® Number, and a budget narrative will be removed from consideration before the technical review process.

Applicants are also encouraged, but not required, to submit OMB Survey N. 1890-0014: Survey on Ensuring Equal Opportunity for Applicants, which can be found at http://www.doleta.gov/sga/forms.cfm.

Part II. The Technical Proposal. The Technical Proposal demonstrates the applicant's capability to implement the grant project in accordance with the provisions of this solicitation. The guidelines for the content of the Technical Proposal are provided in section V.A of this SGA. The Technical Proposal is limited to 20 double-spaced single-sided 8.5×11 inch pages with 12 point text font and 1-inch margins. Any materials beyond the 20-page limit will not be read. Further, any tables or charts contained in the Technical Proposal are included in the 20-page limit and should be single-spaced single-sided 8.5 × 11 inch pages with 12 point text font and 1 inch margins. Applicants should number the Technical Proposal beginning with page number 1. Applications that do not include Part II, the Technical Proposal, will be considered non-responsive. The application should also include a 2-page Executive Summary, which does not count against the 20-page limit for the Technical Proposal.

Part III. Attachments to the Technical Proposal. In addition to the 20-page Technical Proposal, the applicant must submit the following “Required Attachments”: Only these attachments listed below as “Required Attachments” will be excluded from the page limit. The “Required Attachments” must be affixed as separate, clearly identified appendices to the application. Additional materials such as resumes or general letters of support or commitment will not be read. The “Required Attachments” are as follows:

(a) The Two-Page Executive Summary

Applications may be submitted electronically on Grants.gov or in hardcopy by mail or hand delivery. These processes are described in further detail in Section IV.C. Applicants submitting proposals in hardcopy must submit an original signed application (including the SF-424) and one (1) “copy-ready” version free of bindings, staples or protruding tabs to ease in the reproduction of the proposal by DOL. Applicants submitting proposals in hardcopy are also required to provide an identical electronic copy of the proposal on compact disc (CD).

C. Submission Process Date, Times, and Addresses

The closing date for receipt of applications under this announcement is May 10, 2010. Applications must be received at the address below no later than 4:00 p.m. Eastern Time. Applications sent by e-mail, telegram, or facsimile (FAX) will not be accepted. If an application is submitted by both hardcopy and through http://www.grants.gov a letter must accompany the hardcopy application stating why two applications were submitted and the differences between the two submissions. If no letter accompanies the hardcopy, we will review the copy submitted through http://www.grants.gov. For multiple applications submitted through http://www.grants.gov, we will review the latest submittal. Applications that do not meet the conditions set forth in this notice will be considered nonresponsive. No exceptions to the mailing and delivery requirements set forth in this notice will be granted.

Mailed applications must be addressed to the U.S. Department of Labor, Employment and Training Administration, Division of Federal Assistance, Attention: B. Jai Johnson, Grant Officer, Reference SGA/DFA PY 09-05, 200 Constitution Avenue, NW., Room N4716, Washington, DC 20210. Applicants are advised that mail delivery in the Washington area may be delayed due to mail decontamination procedures. Hand-delivered proposals will be received at the above address. All overnight mail will be considered to be hand-delivered and must be received at the designated place by the specified closing date and time.

Applicants may apply online through Grants.gov (http://www.grants.gov); however, due to the expected increase in system activity applicants are encouraged to use an alternate method to submit grant applications during this heightened period of demand. While not mandatory, DOL encourages the submission of applications through a professional overnight delivery service.

Applications that are submitted through Grants.gov must be successfully submitted at http://www.grants.gov no later than 4 p.m. Eastern Time on the closing date, and then subsequently validated by Grants.gov. The submission and validation process is described in more detail below. The process can be complicated and time-consuming. Applicants are strongly advised to initiate the process as soon as possible and to plan for time to resolve technical problems if necessary. The Department strongly recommends that before the applicant begins to write the proposal, applicants should immediately initiate and complete the “Get Registered” registration steps at http://www.grants.gov/applicants/get registered.jsp. Applicants should read through the registration process carefully before registering. These steps may take as much as four weeks to complete, and this time should be factored into plans for electronic submission in order to avoid unexpected delays that could result in the rejection of an application. The site also contains registration checklists to help you walk through the process.

The Department strongly recommends that applicants download the “Organization Registration Checklist” at http://www.grants.gov/assets/Organization Steps Complete Registration.pdf and prepare the information requested before beginning the registration process. Reviewing and assembling required information before beginning the registration process will alleviate last minute searches for required information and save time.

To register with Grants.gov, applicants applying electronically must have a D-U-N-S® Number and must register with the Federal Central Contractor Registry (CCR). Step-by-step instructions for registering with CCR can be found at http://www.grants.gov/applicants/org_step2.jsp. All applicants must register with CCR in order to apply online. Failure to register with the CCR will result in your application being rejected by Grants.gov during the submission process. The next step in the registration process is creating a username and password with Grants.gov to create a profile as an Authorized Organizational Representative (AOR). AORs will need to know the D-U-N-S® Number of the organization for which they will be submitting applications to complete this process. To read more detailed instructions for creating a profile on Grants.gov visit: http://www.grants.gov/applicants/org_step3.jsp. After creating a profile on Grants.gov, the E-Biz Point of Contact (E-Biz POC)—a representative from your organization who is the contact listed for CCR—will receive an e-mail to grant the AOR permission to submit applications on behalf of their organization. The E-Biz POC will then log in to Grants.gov and approve an applicant as the AOR, thereby giving him or her permission to submit applications. To learn more about AOR Authorization visit: http://www.grants.gov/applicants/org_step5.jsp, or to track AOR status visit: http://www.grants.gov/applicants/org_step6.jsp. An application submitted through Grants.gov constitutes a submission as an electronically signed application. The registration and account creation with Grants.gov, with E-Biz POC approval, establishes an AOR. When you submit the application through Grants.gov, the name of your AOR on file will be inserted into the signature line of the application. Applicants must register the individual who is able to make legally binding commitments for the applicant organization as the AOR; this step is often missed and it is crucial for valid submissions.

When a registered applicant submits an application with Grants.gov, an electronic time stamp is generated within the system when the application is successfully received by Grants.gov. Within two business days of application submission, Grants.gov will send the applicant two e-mail messages to provide the status of application progress through the system. The first e-mail, almost immediate, will contain a tracking number and will confirm receipt of the application by Grants.gov. The second e-mail will indicate the application has either been successfully validated or has been rejected due to errors. Only applications that have been successfully submitted by the deadline and subsequently successfully validated will be considered. It is the sole responsibility of the applicant to ensure a timely submission. While it is not required that an application be successfully validated before the deadline for submission, it is prudent to reserve time before the deadline in case it is necessary to resubmit an application that has not been successfully validated. Therefore sufficient time should be allotted for submission (two business days) and, if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding. We strongly advise applicants to use the plethora of tools and documents, including FAQs, that are available on the “Applicant Resources” page at http://www.grants.gov/applicants/resources.jsp. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail support@grants.gov. The Contact Center is open 24 hours a day, seven days a week. They are closed on Federal holidays.

Late Applications: For applications submitted on Grants.gov, only applications that have been successfully submitted no later than 4.00 p.m. Eastern Time on the closing date and subsequently successfully validated will be considered. Applicants take a significant risk by waiting to the last day to submit by Grants.gov. Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day before the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Evidence of timely submission by a professional overnight delivery service must be demonstrated by equally reliable evidence created by the delivery service provider indicating the time and place of receipt.

D. Intergovernmental Review

This funding opportunity is not subject to Executive Order (EO) 12372, “Intergovernmental Review of Federal Programs.”

E. Other Submission Requirements

Withdrawal of Applications. Applications may be withdrawn by written notice at any time before an award is made.

F. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

DOL/ETA's acceptance of a proposal and award of Federal funds to sponsor any program does not provide a waiver of any grant requirements and/or procedures. The Office of Management and Budget (OMB) Circulars A-122 and A-87 require that an entity's procurement procedures must ensure that all procurement transactions are conducted, as much as practical, to provide open and free competition.

1. Indirect Cost Rate

As specified in OMB Circular Cost Principles (A-122 and A-87), indirect costs are those that have been incurred for common or joint objectives and cannot be readily identified with a particular final cost objective. In order to use grant funds for indirect costs incurred, the applicant must obtain an Indirect Cost Rate Agreement with its Federal cognizant agency either before or shortly after grant award.

2. Administrative Costs

Under this SGA, an entity that receives a grant to carry out a project or program may not use more than ten percent of the amount of the grant to pay administrative costs associated with the program or project. Administrative costs could be direct or indirect costs, and are defined at 20 CFR 667.220. Administrative costs do not need to be identified separately from program costs on the SF424A Budget Information Form. They should be discussed in the budget narrative and tracked through the grantee's accounting system. To claim any administrative costs that are also indirect costs, the applicant must obtain an Indirect Cost Rate Agreement from its Federal cognizant agency.

3. Allowable Costs

The Department determines what constitutes allowable costs in accordance with the following Federal cost principles, as applicable: (1) State and Local Government—OMB Circular A-87; (2) Educational Institutions—OMB Circular A-21; (3) Nonprofit Organizations—OMB Circular A-122; and (4) Profit-making Commercial Firms—48 CFR Part 31.

4. Legal Rules Pertaining to Inherently Religious Activities by Organizations That Receive Federal Financial Assistance

The government is generally prohibited from providing direct Federal financial assistance for inherently religious activities. See 29 CFR part 2, Subpart D. Grants under this solicitation may not be used for religious instruction, worship, prayer, proselytizing, or other inherently religious activities. Neutral, non-religious criteria that neither favor nor disfavor religion will be employed in the selection of grant recipients and must be employed by grantees in the selection of sub-recipients.

5. Salary and Bonus Limitations

Under Public Law 109-234, none of the funds appropriated in Public Law 109-149, or prior Acts under the heading “Employment and Training” that are available for expenditure on or after June 15, 2006, shall be used by a recipient or sub-recipient of such funds to pay the salary and bonuses of an individual, either as direct costs or indirect costs, at a rate in excess of Executive Level II. Public Laws 111-8 and 111-117 contain the same limitations with respect to funds appropriated under each of those Laws. These limitations also apply to grants funded under this SGA. The salary and bonus limitation does not apply to vendors providing goods and services as defined in OMB Circular A-133 (codified at 29 CFR parts 96 and 99). See Training and Employment Guidance Letter number 5-06 for further clarification: http://wdr.doleta.gov/directives/corr_doc.cfm?DCON=2262.

6. Intellectual Property Rights

The Federal Government reserves a paid-up, nonexclusive and irrevocable license to reproduce, publish or otherwise use, and to authorize others to use for Federal purposes: (i) The copyright in all products developed under the grant, including a sub-grant or contract under the grant or sub-grant; and (ii) any rights of copyright to which the grantee, sub-grantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

If applicable, the following needs to be on all products developed in whole or in part with grant funds:

This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes are permissible. All other uses require the prior authorization of the copyright owner.

V. Application Review Information

A. Evaluation Criteria

This section identifies and describes the criteria that will be used to evaluate proposals. Points will be awarded as follows:

• Project Design: 40 points.

• Plan for Conducting Competition and for Providing Oversight, Monitoring, and Technical Assistance to Sub-Grantees: 20 points.

• Organizational Experience in Conducting Multi-Site Projects and Experience Serving Young Adult Ex-Offenders: 20 points.

• Organizational Fiscal Capacity: 20 points.

The components listed above make up the Technical Proposal (along with the additional requirements listed in section IV. B).

1. Project Design

Discuss how you will implement each of the required project components in Part I of the grant announcement:

• Employment Strategies: Discuss the strategies that you will use to place ex-offenders and high school dropouts in jobs, and the expected number of participants to be served through each of these employment strategies.

• Case Management: Discuss how you will carry out this component, including the number of case managers you expect sub-grantees to hire, the anticipated number of participants each case manager will serve, and how sub-grantees will provide supportive services and links to housing, mental health services, and other social services.

• Training and Educational Strategies: Discuss the training and educational strategies that you will implement and the expected number of participants to be served through each of the training and educational strategies.

• Mentoring: Describe how the mentoring component will be carried out, including how mentors will be recruited, screened, and trained, the expected length of time participants will be mentored, and the anticipated number of participants who will receive mentors. Also, discuss the extent to which you will use one-on-one mentoring, group mentoring, service-centered mentoring, and work-based mentoring.

• Restorative Justice: Discuss how you will implement community service projects for participants, the anticipated number of projects, and the number of enrollees expected to be served in this component.

• Community-Wide Violence Reduction Efforts: Discuss plans for bringing together faith and community-based organizations, State and local government agencies, and social service organizations in neighborhoods served by the grant to prevent crime and violence.

To be considered fully responsive the applicant must fully and clearly describe its plans and strategies for implementing the required project components in a manner that will demonstrate the organization's experience, capabilities, and qualifications for administering a grant project.

Proposals will be evaluated under this criterion for each of the six required components as follows:

• Up to 10 points will be awarded for the employment strategies component and up to 6 points each will be awarded for the remaining five components. The points for each of the required components will be rated by the panel based on:

• The extent to which the applicant demonstrates that it has thought through how it will implement the component; and

• The potential for the component as designed by the applicant to have large impact on the young adult offender and high school dropout population in the communities to be served.

2. Plan for Conducting Competition and for Providing Oversight, Monitoring, and Technical Assistance to Sub-Grantees

Discuss how you will conduct the competition to select sub-grantees for the project. Provide details about the scope and manner of selecting sub-grantees and describe the factors on which you expect to evaluate proposals from potential sub-grantees. Discuss how you will provide oversight, guidance, and coordination for the sub-grantees to ensure the successful implementation of the project across all sites. Discuss how you will monitor the progress of sub-grantees. Only discuss your monitoring of technical aspects of the project under this criterion; discuss fiscal monitoring under Criterion 4 Fiscal Capacity below. Discuss what technical assistance you will provide to sub-grantees for implementing the required employment, case management, educational, mentoring, restorative justice, and community-wide components. Discuss what assistance that you will provide to sub-grantees in developing partnerships with Federal and State prisons, local jails, parole officers, local drug and alcohol treatment services, local workforce investment boards, housing, mental health services, and other social services.

To be considered fully responsive the applicant must fully and clearly describe its plans and strategies for implementing the required project components in a manner that will demonstrate the organization's experience, capabilities, and qualifications for administering a grant project.

Proposals will be evaluated under this criterion as follows:

• Up to 20 points will be awarded by the panel based on:

• The extent to which your plan for conducting the competition is likely to result in quality sub-grantees operating the project in high-poverty, high-crime communities and the quality of the design of the competition;

• The extent to which your plan for providing oversight, guidance, monitoring, and coordination for sub-grantees is clear, practical, and likely to result in a successful project;

• The extent to which your plan for providing technical assistance to sub-grantees in the six required project components is clear, practical, and likely to result in a successful project;

• The extent to which your plan to assist sub-grantees in developing partnerships with Federal and State prisons, local jails, parole officers, workforce investment boards, and local drug and alcohol treatment providers is clear and likely to be effective in helping sub-grantees develop such partnerships.

3. Organizational Experience in Conducting Multi-Site Projects and Experience Serving Young Adult Ex-Offenders

First, discuss your organization's experience conducting multi-site projects in at least five local areas across at least two States. Select one multi-site project that makes the strongest case for your ability to conduct such projects. Describe this project, the number of participants, the oversight and coordination you provided to grantees, the technical assistance that you provided sub-grantees, the extent of your success in implementing the project, the outcomes of participants in the project, and the partnerships developed in carrying out this project. Second, discuss your organization's experience in serving ex-offenders. Select one project that makes the strongest case for your ability to serve ex-offenders. Describe this project, the number of participants, the extent of your success in implementing the project, the outcomes of participants in the project, and the partnerships developed in carrying out this project. If the multi-site project you select is the same as the ex-offender project you select, this project can serve as your answer to both parts of this rating criterion.

To be considered fully responsive the applicant must fully and clearly describe its plans and strategies for implementing the required project components in a manner that will demonstrate the organization's experience, capabilities, and qualifications for administering a grant project.

Proposals will be evaluated under this criterion as follows:

Up to 10 points will be awarded for experience in conducting multi-site projects and up to 10 points will be awarded for experience in serving ex-offenders. These points will be awarded by the panel based on:

• The organization's success in implementing the project described;

• The level of oversight, coordination, and technical assistance provided to sub-grantees;

• The employment, educational, and recidivism outcomes achieved by participants in the project; and

• The extent of partnerships developed in carrying out the project.

4. Organizational Fiscal Capacity

Provide evidence of your organization's fiscal capacity to carry out this project in a manner that protects government funds.

• Describe the fiscal controls that you have in place to safeguard federal funds;

• Discuss the positive and negative findings from your three most recent audits, and your resolution of negative findings (Applicants agree to provide the Department with these audits if requested);

• Discuss the fiscal controls you had in place in overseeing sub-grantees in previous multi-site projects, and discuss whether there were any fiscal problems relating to sub-grantees in these previous projects;

• Describe the fiscal controls and monitoring you will have in place overseeing the sub-grantees in this project.

To be considered fully responsive the applicant must fully and clearly describe its plans and strategies for implementing the required project components in a manner that will demonstrate the organization's experience, capabilities, and qualifications for administering a grant project.

Proposals will be evaluated under this criterion as follows:

Up to 20 points will be awarded based on:

• The fiscal controls you currently have in place.

• The findings from your three most recent audits and your resolution of negative findings (Taking into account the seriousness of negative findings, applicants with no negative findings will receive higher scores on this item than applicants who have effectively resolved negative findings, who in turn will receive higher scores on this item than applicants who have not as yet effectively resolved negative findings);

• The fiscal controls you had in place in previous multi-site projects and any fiscal problems for sub-grantees; and

• The fiscal controls and monitoring you plan to have in place for sub-grantees for this project.

B. Review and Selection Process

Applications for grants under this solicitation will be accepted after the publication of this announcement and until the closing date. A technical review panel will carefully evaluate applications against the selection criteria. These criteria are based on the policy goals, priorities, and emphases set forth in this SGA. Up to 100 points may be awarded to an application, depending on the quality of the responses to the required information described in section V.A. The ranked scores will serve as the primary basis for selection of applications for funding, in conjunction with other factors such as geographic balance, and which proposals are most advantageous to the government. The panel results are advisory in nature and not binding on the Grant Officer. The Grant Officer may consider any information that comes to his/her attention. The government may elect to award the grant(s) with or without discussions with the applicant. Should a grant be awarded without discussions, the award will be based on the applicant's signature on the SF 424, including electronic signature via E-Authentication on http://www.grants.gov, which constitutes a binding offer by the applicant.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees, including FBOs, will be subject to all applicable Federal laws, regulations (available at http://gpoaccess.gov/cfr) and the applicable OMB Circulars (available at http://www.whitehouse.gov/omb/circulars). The grants awarded under this SGA are subject to the applicable administrative standards and provisions, including, but not limited to, the following:

• All Grant Recipients—20 CFR part 667.220 (Administrative Costs).

• Non-Profit Organizations—OMB Circulars A-122 (Cost Principles) and 29 CFR part 95 (Administrative Requirements).

• Educational Institutions—OMB Circulars A-21 (Cost Principles) and 29 CFR part 95 (Administrative Requirements).

• State and Local Governments—OMB Circulars A-87 (Cost Principles) and 29 CFR part 97 (Administrative Requirements).

• Profit Making Commercial Firms—Federal Acquisition Regulation (FAR)—48 CFR part 31 (Cost Principles), and 29 CFR part 95 (Administrative Requirements).

• 29 CFR part 2, subpart D—Equal Treatment in Department of Labor Programs for Religious Organizations, Protection of Religious Liberty of Department of Labor Social Service Providers and Beneficiaries.

• 29 CFR parts 29 and 30—Labor Standards for Registration of Apprenticeship Programs, and Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs and Activities Receiving or Benefiting from Federal Financial Assistance.

• 29 CFR part 33—Enforcement of Nondiscrimination on the Basis of Handicap in Programs or Activities Conducted by the Department of Labor.

• 29 CFR part 35—Nondiscrimination on the Basis of Age in Programs or Activities Receiving Federal Financial Assistance from the Department of Labor.

• 29 CFR part 36—Nondiscrimination on the Basis of Sex in Education Programs or Activities Receiving Federal Financial Assistance.

• All entities must comply with 29 CFR parts 37, 93, and 98, and where applicable 29 CFR parts 96 and 99.

The Department notes that the Religious Freedom Restoration Act (RFRA), 42 U.S.C. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

In accordance with section 18 of the Lobbying Disclosure Act of 1995 (Pub. L. 104-65) (2 U.S.C. 1611) and 29 CFR part 93, non-profit entities that engage in lobbying activities are not eligible to receive Federal funds and grants.

2. Administrative Standards and Provisions

Except as specifically provided, DOL ETA acceptance of a proposal and an award of Federal funds to sponsor any program(s) does not provide a waiver of any grant requirements and/or procedures. For example, the OMB circulars require, and an entity's procurement procedures must require, that all procurement transactions will be conducted, as practical, to provide full and open competition. If a proposal identifies a specific entity to provide the services, the DOL ETA award does not provide the justification or basis to sole-source the procurement, i.e., avoid competition, unless the activity is regarded as the primary work of an official partner to the application.

3. Special Program Requirements

Evaluation. DOL may require that the Grantee cooperate in an independent evaluation of their project. This evaluation will make use of program MIS data, local administrative data on crime and recidivism, and program progress reports. DOL recognizes that there will be limitations on this cooperation due to State confidentiality requirements regarding data on individual offenders.

C. Reporting and Accountability

These grants will be subject to performance goals measuring their progress in meeting the goals of the grants. National goals will be set after grant award in the following areas:

• Reducing the recidivism rate of young adult offenders served;

• Increasing the employment rate of participants;

• Increasing the rate at which participants receive high school diplomas, and industry-recognized credentials;

• Increasing the rate at which participants enter post-secondary education and training.

Quarterly financial reports, quarterly progress reports, and MIS data will be submitted by the grantee electronically. Grantees must agree to meet DOL reporting requirements. The grantee is required to provide the reports and documents listed below:

The grantee is required to provide the reports and documentation listed below.

• Quarterly Financial Reports. A Quarterly Financial Status Report (ETA 9130) is required until such time as all funds have been expended or the grant period has expired. Quarterly reports are due 45 days after the end of each calendar year quarter. Grantees must use DOL ETA's On-Line Electronic Reporting System. A Closeout Financial Status Report is due 90 days after the end of the grant period.

• Quarterly Progress Reports. The grantee must submit a quarterly progress report to the designated Federal Project Officer within 45 days after the end of each calendar year quarter. Two copies are to be submitted providing a detailed account of activities undertaken during that quarter. DOL ETA may require additional data elements to be collected and reported on either a regular basis or special request basis. Grantees must agree to meet DOL ETA reporting requirements. The quarterly progress report should be in narrative form and should include:

—In-depth information on accomplishments, including project success stories, upcoming grant activities, and promising approaches and processes.

—Progress toward meeting performance outcomes.

—Challenges being faced by the grantee in implementing the project.

MIS Reports

Organizations will be required to submit updated MIS data within 45 days after the end of each quarter based on a DOL template that reports on enrollment, services provided, placements, outcomes, and follow-up status.

In addition, between scheduled reporting dates, the grantee(s) must immediately inform the designated Federal Project Officer of significant developments affecting the ability to accomplish the work.

• Final Performance Report. This report should provide both quarterly and cumulative information on the grant's activities. It must summarize project activities, employment outcomes and other deliverables, and related results of the project, and should thoroughly document the training or labor market information approaches utilized by the grantee. DOL will provide grantees with formal guidance about the data and other information that is required to be collected and reported on either a regular basis or special request basis. Grantees must agree to meet DOL reporting requirements.

Applicants should be aware of Federal guidelines on record retention, which require grantees to maintain all records pertaining to grant activities for a period of not less than three years from the time of final grant close-out.

VII. Agency Contacts

For further information regarding this SGA, please contact Denise Roach, Grants Management Specialist, Division of Federal Assistance, at (202) 693-3820 (please note this is not a toll-free number). Applicants should fax all technical questions to (202) 693-2705 and must specifically address the fax to the attention of Denise Roach and should include SGA-DFA-PY-09-05, a contact name, fax and phone number, and e-mail address. Applicants may e-mail to roach.denise@dol.gov, and include a contact name, fax and phone number, and an e-mail address. The mailing address is: U.S. Department of Labor, OGCM/ETA, Attention: Denise Roach, 200 Constitution Avenue, NW., Room N 4716, Washington, DC 20210.

VIII. Additional Resources and Other Information

A. Resources for the Applicant

DOL maintains a number of web-based resources that may be of assistance to applicants: Questions and responses submitted to the Grant Officer regarding the SGA will be posted on the Employment and Training Web site at http://www.doleta.gov. Questions will be received for one month after publication.

B. Other Information

A. OMB Information Collection No. 1225-0086. Expires November 30, 2012

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Darrin A. King, Departmental Clearance Officer, 200 Constitution Avenue, NW., Room N-1310, Washington, DC 20210. Comments may also be e-mailed to DOL_PRA_PUBLIC@dol.gov. Please do not return the completed application to this address. Send it to the sponsoring agency as specified in this solicitation.

This information is being collected for the purpose of awarding a grant. The information collected through this SGA will be used by the Department to ensure that grants are awarded to the applicant best suited to perform the functions of the grant. Submission of this information is required in order for the applicant to be considered for award of this grant. Unless otherwise specifically noted in this announcement, information submitted in the respondent's application is not considered to be confidential, and will be available to the public. Applications filed in response to this SGA may be posted on the Department's Web site.

Please be advised that the Grant Officer for this competition is B. Jai Johnson.

Signed at Washington, DC, this 2nd day of April 2010.
Donna Kelly,
Grant Officer,
Employment and Training Administration.

[FR Doc. 2010-7912 Filed 4-7-10; 8:45 am]

BILLING CODE 4510-FT-P